FEDERAL COMMUNICATIONS COMMISSION

47 CFR Part 25

[IB Docket Nos. 02-34 and 02-54, FCC 03-102]

Satellite Licensing Procedures

AGENCY: Federal Communications Commission.

ACTION: Final rule.

SUMMARY: This document corrects errors in the rule changes published in the Federal Register of August 27, 2003, regarding reform of space station licensing procedures.

DATES: Effective June 3, 2004.

FOR FURTHER INFORMATION CONTACT: Stephen Duall, Attorney Advisor, Satellite Division, International Bureau, telephone (202) 418-1103 or via the Internet at Stephen.Duall@fcc.gov.

SUPPLEMENTARY INFORMATION:

Background

This document corrects errors in § 25.146 of the Commission's rules. The Commission published a document in the Federal Register of August 27, 2003, (68 FR 51499), that, among other things, was intended to eliminate the Commission's space station “anti-trafficking” prohibitions. These “anti-trafficking provisions” proscribed the sale of bare space station licenses for profit and were codified in various sections of part 25 of the Commission's rules. To implement the elimination of the anti-trafficking provisions, the Commission indicated it would remove and reserve paragraph (i) of § 25.146, which contained the anti-trafficking prohibitions for non-geostationary satellite orbit (NGSO) fixed-satellite service (FSS) in the 10.7 GHz to 14.5 GHz band (as used herein, “Ku-band”).

Prior to this change taking effect, however, the Commission published a separate document in the Federal Register of July 25, 2003, (68 FR 43946), that amended § 25.146 by adding a new paragraph (g) and by re-designating paragraphs (g) through (m) as paragraphs (h) through (n). As a result, “old” § 25.146(h) was re-designated as “new” § 25.146(i), and “old” § 25.146(i) was re-designated as “new” § 25.146(j). Therefore, when the Commission subsequently removed and reserved § 25.146(i), it did not eliminate the text of anti-trafficking provisions for the Ku-band NGSO FSS service, but rather erroneously eliminated the text of rules concerning additional informational requirements for the Ku-Band NGSO FSS that had been previously contained in “old” § 25.146(h). The text of the anti-trafficking provisions inadvertently remained a part of the Code of Federal Regulations as “new” § 25.146(j) of the Commission's rules. This document corrects these errors.

List of Subjects in 47 CFR Part 25

Satellites.

Accordingly, 47 CFR part 25 is corrected by making the following correcting amendments:

PART 25—SATELLITE COMMUNICATIONS

1. The authority citation for part 25 continues to read as follows:

Authority: 47 U.S.C. 701-704. Interprets or applies Sections 4, 301, 302, 303, 307, 309, and 322 of the Communications Act, as amended, 47 U.S.C. 154, 301, 302, 303, 307, 309, and 332, unless otherwise noted.

2. Section 25.146 is amended by revising paragraph (i) and removing and reserving paragraph (j) to read as follows:

§ 25.146 Licensing and operating authorization provisions for the non-geostationary satellite orbit fixed-satellite service (NGSO FSS) in the bands 10.7 GHz to 14.5 GHz.

* * * * *

(i) In addition to providing the information specified in § 25.114, each NGSO FSS applicant shall provide the following:

(1) A demonstration that the proposed system is capable of providing fixed-satellite services on a continuous basis throughout the fifty states, Puerto Rico and the U.S. Virgin Islands, U.S.; and

(2) A demonstration that the proposed system be capable of providing fixed-satellite services to all locations as far north as 70 deg. latitude and as far south as 55 deg. latitude for at least 75 percent of every 24-hour period; and

(3) Sufficient information on the NGSO FSS system characteristics to properly model the system in computer sharing simulations, including, at a minimum, NGSO hand-over and satellite switching strategies, NGSO satellite beam patterns, NGSO satellite antenna patterns and NGSO earth station antenna patterns. In particular, each NGSO FSS applicant must explain the switching protocols it uses to avoid transmitting while passing through the geostationary satellite orbit arc, or provide an explanation as to how the power-flux density limits in § 25.208 are met without using geostationary satellite orbit arc avoidance. In addition, each NGSO FSS applicant must provide the orbital parameters contained in Section A.3 of Annex 1 to Resolution 46. Further, each NGSO FSS applicant must provide a sufficient technical showing to demonstrate that the proposed non-geostationary satellite orbit system meets the power-flux density limits contained in § 25.208, as applicable, and

(4) A description of the design and operational strategies that it will use, if any, to mitigate orbital debris. Each applicant must submit a casualty risk assessment if planned post-mission disposal involves atmospheric re-entry of the spacecraft.

(j) [Removed and Reserved].

* * * * *

Federal Communications Commission.
William F. Caton,
Deputy Secretary.

[FR Doc. 04-12606 Filed 6-2-04; 8:45 am]

BILLING CODE 6712-01-P